DEPARTMENT OF THE INTERIOR

National Park Service

[NPS-WASO-NAGPRA-NPS0039360; PPWOCRADN0-PCU00RP14.R50000]

Notice of Inventory Completion: No Man's Land Museum, Goodwell, OK

AGENCY: National Park Service, Interior.

ACTION: Notice.

SUMMARY: In accordance with the Native American Graves Protection and Repatriation Act (NAGPRA), the No Man's Land Museum has completed an inventory of human remains and has determined that there is no lineal descendant and no Indian Tribe or Native Hawaiian organization with cultural affiliation.

DATES: Upon request, repatriation of the human remains in this notice may occur on or after February 18, 2025.

ADDRESSES: Sue Weissinger, No Man's Land Historical Society, 214 E. Avenue, Goodwell, OK 73939, telephone (580) 349-2670, email:nmlhs@outlook.com.

SUPPLEMENTARY INFORMATION: This notice is published as part of the National Park Service's administrative responsibilities under NAGPRA. The determinations in this notice are the sole responsibility of the No Man's Land Museum, and additional information on the determinations in this notice, including the results of consultation, can be found in its inventory or related records. The National Park Service is not responsible for the determinations in this notice.

Abstract of Information Available

Human remains representing, at least, two individuals have been identified. No associated funerary objects are present. One individual adult was removed from a site six miles west of Texhoma Texas county, Oklahoma and donated on May 11, 1976. The second adult was uncovered while excavating sand for construction in a sand pit north of Guymon, Texas County, Oklahoma. The individual was 6′ to 7′ deep in the sand. Donated to No Man's Land Museum on May 28, 1976.

Consultation

Invitations to consult were sent to the Apache Tribe of Oklahoma; Cheyenne and Arapaho Tribes, Oklahoma; Comanche Nation, Oklahoma; The Osage Nation; and the Wichita & Affiliated Tribes (Wichita, Keechi, Waco, & Tawakonie), Oklahoma.

The Cheyenne and Arapaho Tribes, Oklahoma; Comanche Nation, Oklahoma; The Osage Nation; and the Wichita & Affiliated Tribes (Wichita, Keechi, Waco, & Tawakonie), Oklahoma agreed to consult. The Quapaw Nation declined to comment.

Cultural Affiliation

The following types of information about the cultural affiliation of the human remains in this notice are available: geographical, and expert opinion. The information, including the results of consultation, identified

1. No earlier group connected to the human remains.

2. No Indian Tribe or Native Hawaiian organization connected to the human remains.

3. No relationship of shared group identity between the earlier group and the Indian Tribe or Native Hawaiian organization that can be reasonably traced through time.

Determinations

The No Man's Land Museum has determined that:

• The human remains described in this notice represent the physical remains of one individual of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after February 18, 2025. If competing requests for repatriation are received, the No Man's Land Museum must determine the most appropriate requestor prior to repatriation. Requests for joint repatriation of the human remains are considered a single request and not competing requests. The No Man's Land Museum is responsible for sending a copy of this notice to any consulting lineal descendant, Indian Tribe, or Native Hawaiian organization.

Authority: Native American Graves Protection and Repatriation Act, 25 U.S.C. 3003, and the implementing regulations, 43 CFR 10.10.

Dated: January 13, 2025.
Melanie O'Brien,
Manager, National NAGPRA Program.

[FR Doc. 2025-01172 Filed 1-16-25; 8:45 am]

BILLING CODE 4312-52-P